DEPARTMENT OF THE INTERIOR

Bureau of Land Management

[BLM_AK_FRN_MO4500183278; AA-8489-A]

Alaska Native Claims Selection

AGENCY: Bureau of Land Management, Interior.

ACTION: Notice of decision approving lands for conveyance.

SUMMARY: The Bureau of Land Management (BLM) hereby provides constructive notice that it will issue an appealable decision approving conveyance of the surface estate in certain lands to Chickaloon Moose Creek Native Association, Inc. for the Native village of Chickaloon, pursuant to the Alaska Native Claims Settlement Act of 1971 (ANCSA). The subsurface estate in the same lands will be conveyed to Cook Inlet Region, Inc. when the surface estate is conveyed to Chickaloon Moose Creek Native Association, Inc.

DATES: Any party claiming a property interest in the lands affected by the decision may appeal the decision in accordance with the requirements of 43 CFR part 4 within the time limits set out in the SUPPLEMENTARY INFORMATION section.

ADDRESSES: You may obtain a copy of the decision from the Bureau of Land Management, Alaska State Office, 222 West Seventh Avenue, #13, Anchorage, AK 99513-7504.

FOR FURTHER INFORMATION CONTACT: Matthew R. Lux, Land Transfer Resolution Specialist, BLM Alaska State Office, 907-271-3176, or mlux@blm.gov. Individuals in the United States who are deaf, deafblind, hard of hearing, or have a speech disability may dial 711 (TTY, TDD, or TeleBraille) to access telecommunications relay services. Individuals outside the United States should use the relay services offered within their country to make international calls to the point of contact in the United States.

SUPPLEMENTARY INFORMATION: As required by 43 CFR 2650.7(d), notice is hereby given that the BLM will issue an appealable decision to Chickaloon Moose Creek Native Association, Inc. The decision approves conveyance of the surface estate in certain lands pursuant to ANCSA (43 U.S.C. 1601, et seq.). As provided by ANCSA, the subsurface estate in the same lands will be conveyed to Cook Inlet Region, Inc. when the surface estate is conveyed to Chickaloon Moose Creek Native Association, Inc. The lands are located in the vicinity of Chickaloon, Alaska, and are described as:

Seward Meridian, Alaska

T. 19 N., R. 3 E.,

Secs. 25, 26, and 27;

Secs. 32 to 36, inclusive.

Containing approximately 2,691 acres.

T. 19 N., R. 4 E.,

Secs. 12 and 19.

Containing 113.28 acres.

T. 20 N., R. 5 E.,

Tract A.

Containing 4,414.29 acres.

T. 21 N., R. 5 E.,

Sec. 3;

Secs. 9 and 10;

Secs. 16 and 17;

Secs. 19 and 20;

Secs. 30, and 31.

Containing 5,735.68 acres.

T. 22 N., R. 5 E.,

Secs. 25 and 26;

Secs. 34, 35, and 36.

Containing 3,200 acres.

T. 21 N., R. 6 E.,

Secs. 2 and 3;

Secs. 10 and 11;

Secs. 14 and 15;

Secs. 21 and 22;

Secs. 28 and 29;

Secs. 31, 32, and 33.

Containing 8,323.92 acres.

T. 22 N., R. 6 E.,

Sec. 1;

Secs. 11 to 14, inclusive;

Sec. 23;

Sec. 26;

Secs. 30 and 31;

Sec. 35.

Containing 5,894.64 acres.

Aggregating approximately 30,373 acres.

The decision addresses public access easements, if any, to be reserved to the United States pursuant to sec. 17(b) of ANCSA (43 U.S.C. 1616(b)), in the lands described above.

The BLM will also publish notice of the decision once a week for four consecutive weeks in the Anchorage Daily News newspaper.

Any party claiming a property interest in the lands affected by the decision may appeal the decision in accordance with the requirements of 43 CFR part 4 within the following time limits:

1. Unknown parties, parties unable to be located after reasonable efforts have been expended to locate, parties who fail or refuse to sign their return receipt, and parties who receive a copy of the decision by regular mail which is not certified, return receipt requested, shall have until December 27, 2024 to file an appeal.

2. Parties receiving service of the decision by certified mail shall have 30 days from the date of receipt to file an appeal.

Parties who do not file an appeal in accordance with the requirements of 43 CFR part 4 shall be deemed to have waived their rights. Notices of appeal transmitted by facsimile will not be accepted as timely filed.

Matthew R. Lux,
Land Transfer Resolution Specialist, Resolution Group.

[FR Doc. 2024-27785 Filed 11-26-24; 8:45 am]

BILLING CODE 4331-10-P